DEPARTMENT OF HEALTH AND HUMAN SERVICES

Indian Health Service

Mental Health and Community Safety Initiative for American Indian/Alaska Native Children, Youth and Families

AGENCY: Indian Health Service.

ACTION: Notice of funding availability for competitive grants for the Mental Health and Community Safety Initiative for American Indian/Alaska Native (AI/AN) Children, Youth, and Families.

SUMMARY: The Indian Health Service (IHS) announces the development of the Mental Health and Community Safety Initiative for American Indian/Alaska Native (AI/AN) Children, Youth, and Families and the availability of competitive grants under this Initiative for fiscal year (FY) 2000. Grants under this Initiative will be administered by the following Federal agencies: (1) The IHS and Substance Abuse and Mental Health Services Administration (SAMHSA), United States Department of Health and Human Services (HHS); (2) Office of Community Oriented Policing Services (COPS) and Office of Juvenile Justice and Delinquency Prevention (OJJDP), United States Department of Justice (DOJ); and (3) Office of Elementary and Secondary Education (OESE), United States Department of Education (ED).

The Initiative will provide tribes and tribal organizations with easy-to-access assistance in developing innovative strategies that focus on the mental health, behavioral, substance abuse, and community safety needs of AI/AN young people and their families through a coordinated Federal grant process. Total funding available for the four grant programs involved in the Initiative is $4.13 million.

Coordination of this effort has been initiated through the White House Domestic Policy Council and was announced at the June 7, 1999, White House Conference on Mental Health.

The primary purpose of the Initiative is to promote Indian youth mental health, education, and substance abuse-related (alcohol as well as drug abuse) services, and to support juvenile delinquency prevention and intervention through the creation and implementation of culturally sensitive programs. Grant funds will be available beginning in FY 2000 and a coordinated grant program will continue over a three-year period.

The Initiative will support tribes in providing a range of youth support services and programs to address the mental health and related needs of AI/AN young people and their families through various settings within the community, such as in the home, in the schools, in violence prevention education programs, in health care treatment programs, and in the juvenile justice system.

Interagency programs included in this effort have been selected based upon their combined potential to address comprehensively mental health, juvenile justice, substance abuse, and related issues. As part of this Initiative, tribes are encouraged to promote coordination and collaboration among the local programs that serve young people in their communities.

Tribes may apply for one or more of the grant programs included in the Initiative to address their programmatic needs. In submitting an application or applications, tribes should identify the complex community issues involved and demonstrate how the proposed application(s) will provide for a comprehensive approach to addressing and attempting to solve these issues.

Government Agencies Providing Grants Funding

A. HHS Agencies Providing Grant Funding for the Initiative are: the IHS and the SAMHSA

1. IHS

The IHS announces the availability of $1.13 million in FY 2000 for competitive grant awards for the AI/AN Mental Health Grants Program. Under this program, tribes and tribal organizations will be considered for two types of projects:

• Mental Health Projects will provide demonstration projects that serve the AI/AN children and youth involved with the juvenile justice system and their families. These projects should be targeted at providing culturally relevant systems of care resulting in reduced hospitalization, better case-management, and increased family participation in the treatment process.

• Child Abuse and Neglect Projects will provide projects that develop screening, evaluation, and referral systems in collaboration with tribal child protection teams for AI/AN children and youth in the juvenile justice system who have been abused and/or neglected. The grantee would be required to initiate the development of prevention programs targeting children and families at risk for abuse and neglect.

This program is included in the Catalog of Federal Domestic Assistance under #93.228. The deadline for receipt of applications is June 2, 2000.

For information regarding the IHS program, contact Lahoma Roebuck, Division of Clinical and Preventive Services, Indian Health Service, 5600 Fishers Ln., Rm. 6A-20, Rockville, MD 20857, (301) 443-1068, Fax: (301) 594-6213, e-mail: LRoebuck@hqe.ihs.gov

2. SAMHSA

The Center for Mental Health Service in partnership with the Center for Substance Abuse Treatment and the Center for Substance Abuse Prevention has available approximately $450,000 in FY 2000 for 1-year grant awards to tribal and urban Indian communities for the AI/AN Youth Priority Initiative. The average award may range from $50,000 to $150,000 depending on the size of the identified service population of the applicant.

This Initiative supports the adoption of exemplary practices related to the delivery and organization of services for AI/AN youth with serious emotional and substance abuse problems. Applicants must identify an exemplary practice specific to the needs of the AI/AN youth, and demonstrate the involvement of the tribal leadership, as well as education; law enforcement; and substance abuse, health, social services, and mental health entities in the community. Examples of an exemplary practice include: wrap-around, multi-systemic treatment, or case management services to improve access to services, increase family voice in the system of care, and reduce institutional placements; mentoring programs; culturally specific programs to restore rites of passage and intergenerational support; and gathering of Native American programs to convene youth serving programs; and peer counseling programs.

This program is described in the Catalog of Federal Domestic Assistance under #93.230. Deadline date for receipt of applications is May 10, 2000.

For information regarding the SAMHSA program, contact Jill Shepard Erickson, MSW Public Health Advisor, Child, Adolescent and Family Branch, Center for Mental Health Services, Substance Abuse and Mental Health Services Administration, Suite 11 C-16, Parklawn Building, 5600 Fishers Ln., Rm. 6A-54, Rockville, MD 20857, (301) 443-1333, Fax: (301) 443-3693, e-mail:jerickso@samhsa.gov

B. DOJ Agencies Providing Grant Funding for the Initiative are: the COPS and the OJJDP

1. COPS

The COPS announces the availability of $1.5 million for the Mental Health and Community Safety Initiative for AI/AN Children, Youth and Families. Grants will be awarded for salaries and benefits for new police officers, as well as law enforcement training and equipment, including technology and vehicles, for new and existing police officers. It is expected that resources funded under this program (officer positions, equipment and/or training) will be used to meet the mental health, behavioral, and substance abuse needs for Native American youth and their families and provide a range of youth support services and programs both in the community and in the school arena. Sworn police officers may be deployed as Community Resource Officers or as School Resource Officers to engage in community policing activities. Salaries and benefits cover a 3-year period. A 25% local match requirement may be waived on the basis of demonstrated fiscal distress. All applicants must submit a written plan to retain their COPS-funded officer positions after Federal funding has ended.

Grants funded under the COPS initiative will be supplemented with $50,000 provided by OESE, ED, from FY 2000 Safe and Drug-free Schools and Communities Act National Program funds. These funds will be awarded to the recipients of COPS funds under this initiative and will be used to support alcohol, tobacco, and other drug or violence prevention activities in school-based settings to be implemented by police officers supported by COPS funds.

This program is described in the Catalog of Federal Domestic Assistance under #16710. The deadline for receipt of applications is May 26, 2000.

Contact for the COPS program: June Kress, Senior Policy Analyst, Office of Community Oriented Policing Services (COPS), U.S. Department of Justice, 1100 Vermont Avenue, NW 9th Floor, Washington, DC 20530, (202) 616-2915, Fax: (202) 616-9612, e-mail: june.kress2@usdoj.gov.

2. OJJDP

The purpose of the Tribal Youth Program (TYP) is to support and enhance tribal efforts for comprehensive delinquency prevention and control and for juvenile justice system improvement for Native American youth. In FY 2000, $1 million of the total appropriation for the TYP has been set aside to provide mental health services to youth in Tribal and/or State juvenile justice systems. The programs or projects to be funded must provide mental health services through one or more of the following activities:

(1) Reduce, control, and prevent crime and delinquency both by and against tribal youth;

(2) Provide interventions for court-involved tribal youth;

(3) Improve tribal juvenile justice systems; and

(4) Provide prevention programs focusing on alcohol and drugs.

The description for this program is located in #16.731 in the Catalog of Federal Domestic Assistance. The deadline for receipt of applications for this TYP Mental Health Initiative is June 15, 2000.

For more information, please contact: Chyrl Andrews, Acting Tribal Youth Manager, Office of Juvenile Justice and Delinquency Prevention (OJJDP), State Relations and Assistance Division, U.S. Department of Justice, 810 Seventh Street, NW, Washington, DC 20531, 202-307-5924, Fax: (202) 307-2819, e-mail: andrewsc@ojp.usdoj.gov

Distribution of Grant Application Kits

The IHS, SAMHSA, COPS, and OJJDP are preparing a single, consolidated grant application package that will include the program announcement and application kit for each of the four grant programs described above. The consolidated application package will be distributed in early May 2000. A package will be sent directly to (1) the Tribal Chairman of every federally recognized tribe; (2) the Director of every tribal organization as defined by section 4(1) of Pub. L. 93-638, Indian Self-Determination and Education Assistance Act, as amended, and (3) the Director of every tribal health department.

To request additional application packages, please contact: Office of Juvenile Justice and Delinquency Prevention, Juvenile Justice Clearinghouse, 2277 Research Boulevard, Rockville, Maryland 20850, Reference: White House Initiative on Mental Health (Solicitation #410), Telephone: 1-800-683-8736.

Dated: April 24, 2000.
Michel E. Lincoln,
Deputy Director.

[FR Doc. 00-11480 Filed 5-8-00; 8:45 am]

BILLING CODE 4160-16-M